DEPARTMENT OF STATE

[Delegation of Authority No. 320]

Re-Delegation From the Deputy Secretary of State of Certain Authorities Vested in the Under Secretary for Public Diplomacy and Public Affairs

By virtue of the authority vested in the Secretary of State by the laws of the United States, including the Mutual Educational and Cultural Exchange Act of 1961, the United States Information and Educational Exchange Act of 1948, and the State Department Basic Authorities Act of 1956, and delegated to me by Delegation of Authority 245, dated April 23, 2001, I hereby delegate to the following officials to the extent authorized by law all authorities vested in the Under Secretary of State for Public Diplomacy and Public Affairs, including all authorities vested in the Secretary of State that have been or may be delegated or redelegated to that Under Secretary:

(1) To the Deputy Spokesman, Bureau of Public Affairs, insofar as these authorities relate to the responsibilities of the Bureau of Public Affairs;

(2) To the Principal Deputy Assistant Secretary of State for Educational and Cultural Affairs, insofar as these authorities relate to the responsibilities of the Bureau of Educational and Cultural Affairs, including responsibilities with respect to the John F. Kennedy Center for the Performing Arts and the President's Committee on the Arts and the Humanities; and

(3) To the Coordinator for International Information Programs, insofar as these authorities relate to the responsibilities of the Bureau of International Information Programs, including responsibilities with respect to the National Endowment for Democracy and the Broadcasting Board of Governors.

Any authorities covered by this delegation are also hereby delegated to the Deputy Secretary for Management and Resources, the Under Secretary for Political Affairs and the Under Secretary for Management, and may also be exercised by the Secretary and the Deputy Secretary. Nothing in this delegation of authority shall be deemed to supersede any existing delegation of authority, which shall remain in full force and effect during and after this delegation.

This delegation shall become effective at noon on January 20, 2009, and shall expire upon the appointment and entry upon duty of a subsequently appointed individual to serve as Under Secretary of State for Public Diplomacy and Public Affairs.

This memorandum shall be published in the Federal Register.

Dated: January 16, 2009.
John D. Negroponte,
Deputy Secretary of State.

[FR Doc. E9-1941 Filed 1-28-09; 8:45 am]

BILLING CODE 4710-10-P